DEPARTMENT OF HEALTH AND HUMAN SERVICES

National Committee on Vital and Health Statistics; Nominations

AGENCY: Office of the Secretary, HHS.

ACTION: Notice of Nominations.

SUMMARY: The purpose of this notice is to solicit nominations for membership on the National Committee on Vital and Health Statistics (NCVHS). The NCVHS is the statutory public advisory body to the Department of Health and Human Services (HHS) in the areas of health data policy, data standards, health information privacy and population-based data. The Committee has been assigned new advisory responsibilities in health data standards and health information privacy as a result of the Health Insurance Portability and Accountability Act. Several vacancies are expected to occur on the Committee as of June 2001. New members of the Committee will be appointed to terms of up to four years by the Secretary of Health and Human Services from among persons who have distinguished themselves in the following fields: health statistics, electronic interchange of health care information, privacy and security of electronic information, population-based public health, purchasing or financing health care integrated computerized health information systems, health services, research, consumer interests in health information, health data standards, epidemiology, and the provision of health services.

In appointing members, the HHS will give close attention to equitable geographic distribution and to minority and female representation. Appointments will be made without discrimination on the basis of age, race, gender, sexual orientation, HIV status, cultural, religious or socioeconomic status.

DATES: Nominations for new members should include a letter describing the qualifications of the nominee and the nominee's current resume or vitae. The information submitted must include complete name, title, and current address and telephone numbers. The closing date for nominations is April 27, 2001.

Nominations should be sent to: James Scanlon, Executive Staff Director, HHS Data Council, U.S. Department of Health and Human Services, Room 440-D, 200 Independence Avenue SW., Washington, DC 20201, Telephone: (202) 690-7100.

FOR FURTHER INFORMATION CONTACT: James Scanlon at (202) 690-7100 or Marjorie Greenberg at (301) 458-4245. Additional information about the NCVHS, including the charter, current roster, current activities and organization, and previous recommendations and reports is available on the NCVHS website: http://www.ncvhs.hhs.gov.

SUPPLEMENTARY INFORMATION:

Background

The National Committee on Vital and Health Statistics serves as the statutory public advisory body to the Department of Health and Human Services in the area of health data policy.

In that capacity, the Committee, which celebrated its 50th anniversary last year, provides advice and assistance to HHS on a variety of key health data issues, including health data standards, privacy, population-based-data, and national health information infrastructure issues.

The Committee also provides advice to HHS on the implementation of the Administrative Simplification requirements of the Health Insurance Portability and Accountability Act of 1996. The Committee consists of 18 members: Of the 18 members, one is appointed by the Speaker of the House of Representatives after consultation with the minority leader of the House of Representatives; one is appointed by the President pro tempore of the Senate after consultation with the minority leader of the Senate, and 16 are appointed by the Secretary of Health and Human Services.

Dated: March 16, 2001.
William F. Raub,
Acting Assistant Secretary for Planning and Evaluation.
Dated: March 16, 2001.
John M. Eisenberg,
Director, Agency for HealthCare Research and Quality, Cochairpersons, HHS Data Council.

[FR Doc. 01-7632 Filed 3-27-01; 8:45 am]

BILLING CODE 4151-05-M